DEPARTMENT OF HOMELAND SECURITY

Coast Guard

33 CFR Part 165

[CGD13-06-012]

RIN 1625-AA00

Safety Zone: Trojan Power Plant Cooling Tower Implosion, Rainier, OR

AGENCY: Coast Guard, DHS.

ACTION: Temporary final rule.

SUMMARY: The Coast Guard is establishing a temporary safety zone on the Columbia River in the vicinity of the Trojan Power Plant. The Captain of the Port, Portland, Oregon is taking this action to safeguard individuals and vessels from safety hazards associated with the implosion of the Trojan Power Plant cooling tower. Entry into this safety zone is prohibited unless authorized by the Captain of the Port.

DATES: This rule is effective from 6 a.m. to 8 a.m. on May 21, 2006.

ADDRESSES: Documents indicated in this preamble as being available in the docket are part of docket [CGD13-06-012] and are available for inspection or copying at U.S. Coast Guard Sector Portland, 6767 N. Basin Ave., Portland, Oregon 97217-3992 between 7 a.m. and 4 p.m., Monday through Friday, except Federal holidays.

FOR FURTHER INFORMATION CONTACT: LT Shadrack Scheirman, Chief Port Operations, USCG Sector Portland, 6767 N. Basin Ave., Portland, Oregon 97217; telephone number (503) 240-9311.

SUPPLEMENTARY INFORMATION:

Regulatory Information

We did not publish a notice of proposed rulemaking (NPRM) for this regulation. Under 5 U.S.C. 553(b)(B) and 5 U.S.C. 553(d)(3), the Coast Guard finds that good cause exists for not publishing an NPRM and making this rule effective less than 30 days after publication in the Federal Register because the Coast Guard did not receive adequate prior notification of the operation from the event sponsor. Publishing a NPRM would be contrary to public interest since immediate action is necessary to ensure the safety of vessels and spectators gathering in the vicinity of the tower implosion.

If normal notice and comment procedures were followed, this rule would not become effective until after the dates of the event. For this reason, following normal rulemaking procedures in this case would be impracticable and contrary to the public interest.

Background and Purpose

The Coast Guard is establishing a temporary safety zone regulation in the interest of public and maritime safety. The implosion of the Trojan Power Plant cooling tower will produce a dust cloud that may spread across the Columbia River. Depending upon wind speed and direction on the day of the implosion, the dust cloud could be a hazard to the navigation of vessel traffic in the area.

Discussion of Rule

This rule, for safety concerns, will control individuals and vessel movement in a regulated area surrounding the Trojan Power Plant cooling tower. Due to its close proximity to the Columbia River, the implosion operation will pose a hazard to navigation. Entry into this zone is prohibited unless authorized by the Captain of the Port or his designated representative. The Captain of the Port will enforce this safety zone with the assistance of other Federal, State and local law enforcement agencies.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS). The Coast Guard expects the economic impact of this rule to be so minimal that a full regulatory evaluation under the regulatory policies and procedures of the DHS is unnecessary. This expectation is based on the fact that this rule will be in effect for the minimum time necessary to safely conduct the implosion operation. While this rule is in effect, traffic will be allowed to pass though the zone with the permission of the Captain of the Port or his designated representatives on-scene.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which may be small entities: the owners or operators of vessels intending to transit or anchor in a portion of the Columbia River at the corresponding time as drafted in this rule.

This safety zone will not have a significant economic impact on a substantial number of small entities for the following reasons: Although the safety zone will apply to the entire width of the river, traffic will be allowed to pass through the zone at selected times with the permission of the Captain of the Port or his designated representative on-scene; before the enforcement period, we will issue maritime advisories widely available to users of the river.

Because the impact of this rule is expected to be so minimal, the Coast Guard certifies under 5 U.S.C. 605(b) that this rule will not have a significant economic impact on a substantial number of small entities.

Assistance for Small Entities

Under section 213(a) of the Small Business Regulatory Enforcement Fairness Act of 1996 (Pub. L. 104-121), we offered to assist small entities in understanding the rule so that they could better evaluate its effects on them and participate in the rulemaking process. If the rule will affect your small business, organization, or governmental jurisdiction and you have questions concerning its provisions or options for compliance, please contact the person listed in the FOR FURTHER INFORMATION CONTACT section. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(g) of the Instruction, from further environmental documentation.

List of Subjects in 33 CFR Part 165

Harbors, Marine safety, Navigation (water), Reporting and recordkeeping requirements, Security measures, Waterways.

For reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g),6.04-1, 6.04-6, and 160.5; Pub. L. 107-295, 116 Stat. 2064; Department of Homeland Security Delegation No. 0170.1.

2. A temporary section 165.T13-005 is added to read as follows:

165.T13-005 Safety Zone: Trojan Power Plant Water Cooling Tower Implosion, Rainier, Oregon

(a) Location. The following area is designated a safety zone: All waters of the Columbia River between river miles 70-75.

(b) Enforcement period. This rule will be in effect from 6 a.m. to 8 a.m. on May 21, 2006.

(c) Regulations. In accordance with the general regulations in section 165.23 of this part, no person or vessel may enter or remain in this zone unless authorized by the Captain of the Port of his designated representatives.

(d) Enforcement. (i) The Coast Guard Patrol Commander will be on-scene to ensure the safety of all vessels on the water in the vicinity of the area during the operation and may be assisted by other federal, State or local law enforcement agencies. (ii) The Captain of the Port will broadcast status updates for this safety zone by Marine Safety Radio Broadcast on VHF Marine Band Radio Channel 22 (157.1 MHz and through the means required under 5 U.S.C. 553.

Dated: April 17, 2006.
Patrick G. Gerrity,
Captain, U.S. Coast Guard, Captain of the Port, Portland, OR.

[FR Doc. 06-3934 Filed 4-25-06; 8:45 am]

BILLING CODE 4910-15-P